DEPARTMENT OF THE INTERIOR

Bureau of Land Management

[XXXL8069F.LLAZG02000.L71220000.EU0000.LVTFA1158500;AZA-36547]

Notice of Realty Action: Direct Sale of Public Lands in Pima County, AZ; Correction.

AGENCY: Bureau of Land Management, Interior.

ACTION: Notice of Realty Action; Correction.

SUMMARY: The Bureau of Land Management (BLM) published a notice in the Federal Register of July 5, 2013, concerning a “Direct Sale of Public Lands in Pima County, AZ.” That notice cited an erroneous serial number in its heading. This notice corrects that error.

FOR FURTHER INFORMATION CONTACT: Linda Dunlavey, Realty Specialist, BLM, Tucson Field Office, 3201 East Universal Way, Tucson, Arizona 85756; telephone 520-258-7260 or email ldunlavey@blm.gov.

Correction

In the Federal Register of July 5, 2013, in Federal Register document 78-40503, on page 40503, at the bottom of the first column, within the fourth line of the notice, correct the BLM's serial number to read AZA-36547 from the incorrect serial number AZA-281317-01.

Viola Hillman,
Tucson Field Manager.

[FR Doc. 2014-19848 Filed 8-20-14; 8:45 am]

BILLING CODE 4310-32-P